ENVIRONMENTAL PROTECTION AGENCY

[FRL-7027-2]

Notice of the Year 2001 Clean Air Excellence Awards Program

AGENCY: Environmental Protection Agency (EPA).

ACTION: Notice.

SUMMARY: The Environmental Protection Agency established the Clean Air Excellence Awards Program (CAEAP) on February 28, 2000, by Federal Register Notice (65 FR 10490). This notice announces the second year (Year 2001) of this awards program.

AWARDS PROGRAM NOTICE: Pursuant to 42 U.S.C. 7403 (a) (1) and (2), notice is hereby given that the Clean Air Excellence Awards Program (CAEAP) will be sponsored by the Office of Air and Radiation (OAR) in the U.S. Environmental Protection Agency for the year 2001. The intent of the program is to recognize and honor outstanding, innovative efforts that help to make progress in achieving cleaner air. The CAEAP is open to both public and private entities. Entries are limited to the United States. There are six award categories: (1) Clean Air Technology; (2) Community Development/Redevelopment; (3) Education/Outreach; (4) Regulatory/Policy Innovations; (5) Transportation Efficiency Innovations; and (6) Outstanding Individual Achievement Award. Awards are recognition only and will be given on an annual basis.

ENTRY REQUIREMENTS AND DEADLINE: All applicants are asked to submit their entry on a CAEAP entry form, contained in the CAEAP Entry Package, which may be obtained from the CAAAC web site at www.epa.gov/oar/caaac/index.html or contacting Mr. Paul Rasmussen, U.S. EPA at 202-564-1306 or 202-564-1352 (Fax), mailing address: Office of Air and Radiation, Room 6510A (Mail Code: 6102A), 1200 Pennsylvania Avenue, NW., Washington DC 20004. The entry form is a simple, three-part form asking for general information on the applicant and the proposed entry; asking for a description of why the entry is deserving of an award; and requiring information from three (3) independent references for the proposed entry. Applicants should also submit additional supporting documentation as necessary. Specific directions and information on filing an entry form are included in the Entry Package available through the directions above. The deadline for all submission of entries is September 28, 2001.

JUDGING AND AWARD CRITERIA: Judging will be accomplished through a screening process conducted by EPA staff, with input from outside subject experts, as needed. Advice on the awards will be obtained from the Clean Air Act Advisory Committee (CAAAC), a policy-level advisory committee to EPA. This advice will be forwarded to the EPA Assistant Administrator for Air and Radiation, who will make the final decisions. All decisions on the awards will be the responsibility of EPA. Entries will be judged using both general criteria and criteria specific to each individual category. There are four (4) general criteria: (1) The entry directly or indirectly (i.e., encouraging actions) reduces emissions of criteria pollutants, and/or hazardous/toxic air pollutants; (2) The entry demonstrates innovation and uniqueness; (3) The entry provides a model for others to follow (i.e., it is replicable); and (4) The positive outcomes from the entry are continuing/sustainable. Although not required to win an award, the following general criteria will also be considered in the judging process: (1) The entry has positive effects on other environmental media in addition to air; (2) The entry demonstrates effective collaboration and partnerships; and (3) The individual or organization submitting the entry has effectively measured/evaluated the outcomes of the project, program, technology, etc. As mentioned above, additional criteria will be used for each individual award category. These criteria are listed in the 2001 Entry Package.

FOR FURTHER INFORMATION Concerning this new awards program please use the CAAAC Web site cited above or contact Paul Rasmussen at the telephone and address cited above.

Dated: July 31, 2001.
Robert D. Brenner,
Acting Assistant Administrator for Air and Radiation.

[FR Doc. 01-20218 Filed 8-10-01; 8:45 am]

BILLING CODE 6560-50-P